DEPARTMENT OF ENERGY

Federal Energy Regulatory Commission

Combined Notice of Filings #2

Take notice that the Commission received the following electric rate filings:

Docket Numbers: ER10-2137-014; ER14-2798-006; ER14-2799-006; ER12-161-013; ER12-164-013; ER15-1873-003; ER12-645-015; ER10-2130-014; ER10-2131-014; ER10-2138-014; ER10-2139-014; ER10-2140-014; ER10-2141-014; ER14-2187-008; ER11-4044-015; ER11-4046-014; ER10-2127-013; ER10-2125-014; ER14-25-010; ER15-1041-003; ER15-2205-002; ER10-2133-014; ER10-2124-013; ER11-3872-015; ER10-2764-013; ER10-2132-013; ER10-2128-013.

Applicants: Beech Ridge Energy LLC, Beech Ridge Energy II LLC, Beech Ridge Energy Storage LLC, Bishop Hill Energy LLC, Bishop Hill Energy III LLC, Buckeye Wind Energy LLC, California Ridge Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Invenergy TN LLC, Judith Gap Energy LLC, Prairie Breeze Wind Energy LLC, Prairie Breeze Wind Energy II LLC, Prairie Breeze Wind Energy III LLC, Sheldon Energy LLC, Spring Canyon Energy LLC, Stony Creek Energy LLC, Vantage Wind Energy LLC, Willow Creek Energy LLC, Wolverine Creek Energy LLC.

Description: Notification of Change in Facts of Beech Ridge Energy LLC, et al.

Filed Date: 10/23/15.

Accession Number: 20151023-5271.

Comments Due: 5 p.m. ET 11/13/15.

Docket Numbers: ER15-13-003.

Applicants: Transource Wisconsin, LLC.

Description: Compliance filing: Transource Wisconsin Deficiency Compliance Filing to be effective12/1/2014.

Filed Date: 10/23/15.

Accession Number: 20151023-5220.

Comments Due: 5 p.m. ET 11/13/15.

Docket Numbers: ER15-958-003.

Applicants: Transource Kansas, LLC.

Description: Compliance filing: Transource Kansas Deficiency Filing to be effective 4/3/2015.

Filed Date: 10/23/15.

Accession Number: 20151023-5320.

Comments Due: 5 p.m. ET 11/13/15.

Docket Numbers: ER16-140-000.

Applicants: PJM Interconnection, L.L.C., Pennsylvania Electric Company, Jersey Central Power & Light, Metropolitan Edison Company.

Description: § 205(d) Rate Filing: Penelec, et al. submit SA Nos. 4221, 4222, 4223 with Reverse Power Flow Agreement to be effective 12/22/2015.

Filed Date: 10/23/15.

Accession Number: 20151023-5176.

Comments Due: 5 p.m. ET 11/13/15.

Docket Numbers: ER16-141-000.

Applicants: Conetoe II Solar, LLC.

Description: Baseline eTariff Filing: MBR Tariff and Application to be effective 10/26/2015.

Filed Date: 10/23/15.

Accession Number: 20151023-5326.

Comments Due: 5 p.m. ET 11/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2015.
Nathaniel J. Davis, Sr.,
Deputy Secretary.

[FR Doc. 2015-27671 Filed 10-29-15; 8:45 am]

BILLING CODE 6717-01-P